DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company (Waiver Petition Docket Number FRA-2004-19199)

The Union Pacific Railroad Company (UP) seeks a waiver of compliance from certain provisions of 49 CFR part 232, Brake System Safety Standards for Freight and Other Non-Passenger Trains and Equipment. Specifically, § 232.215, Transfer Train Brake Tests and § 232.103(e), which requires at least 85% of a train's brakes to be operative when moving defective equipment in a train. This relief would apply for the movement of “bad order” cuts of cars from UP's former 18th Street Yard to UP's former Armstrong Yard in Kansas City, Kansas.

UP contends that the yard in question consists of one large end-to-end yard, which was historically considered separate yards—the former 18th Street Yard and the former Armstrong Yard. Both yards are contiguous and are connected by yard tracks, as well as a main line track. For purposes of clarity, the historical names of the two former yards will be used in this waiver.

The 18th Street Yard has never had repair facilities. When cars are found with defective conditions, they are assembled and moved to the Armstrong Yard as a switching move, where repair facilities are located. UP states that the movement of bad order cars from the 18th Street Yard to the Armstrong Yards typically consists of 30 to 40 cars, once each day, over a distance of 1 to 2 miles (that includes crossing the main line for a distance of 0.5 mile), using only the locomotive brakes to control the movement. There are no public grade crossings anywhere along the route and the route is virtually flat. UP also states that this switching movement has been conducted this way for at least the last 35 years. Recently, FRA took the position that this movement should be treated as a “transfer train” movement, requiring a transfer train brake test. This presents a problem for UP, since many of the cars are bad ordered for defective brakes, and at least 85% of the train's brakes would have to be operative if a transfer brake test is required. Accordingly, UP requests a waiver from the requirements of performing a transfer train brake test on the bad order repair movements from 18th Street Yard to Armstrong Yard, as well as relief from the requirement that no less than 85% of a train's brake be operative for these movements, subject to the following conditions:

1. After the train crew has coupled their locomotive(s) to the train, the brake hoses will be connected and the brake pipe pressure will be charged to 60 psi as indicated by an accurate gauge or an end-of-train device at the rear of the train. After brake pipe pressure has been adequately charged, the train would receive a Class III brake test as prescribed in § 232.211(b).

2. Trains will be restricted to 10 mph when moving between the two yards.

3. UP shall immediately notify FRA of any accident during these movements.

Since UP has been conducting these moves as “switching movements” for at least the last 35 years, with only the locomotive brakes controlling the movements, they do not believe that safety will be compromised if the waiver is granted with the above conditions. Under this conditional waiver, the movement will have train brakes, in addition to the locomotive brakes. UP cites two waivers that FRA has previously granted allowing road trains to move 2 to 3 miles before a brake test is performed, FRA Docket 2002-13253 and FRA Docket 2002-13399.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19199) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78). The Statement may also be found at http://dms.dot.gov.

Issued in Washington, DC on November 1, 2004.
Grady C. Cothen, Jr.,
Acting Associate Administrator.

[FR Doc. 04-24768 Filed 11-3-04; 8:45 am]

BILLING CODE 4910-06-P